DEPARTMENT OF COMMERCE

National Oceanic and Atmospheric Administration

[RTID 0648-XB945]

New England Fishery Management Council; Public Meeting

AGENCY: National Marine Fisheries Service (NMFS), National Oceanic and Atmospheric Administration (NOAA), Commerce.

ACTION: Notice of public meetings.

SUMMARY: The New England Fishery Management Council's is convening several Scoping Meetings for Limited Access Leasing in the Atlantic Sea Scallop Fishery to consider actions affecting New England fisheries in the exclusive economic zone (EEZ). Recommendations from this group will be brought to the full Council for formal consideration and action, if appropriate.

DATES: These meetings and webinars will be held between the dates of Wednesday, April 27, 2022 and Friday, June 24, 2022. See SUPPLEMENTARY INFORMATION for more details on specific dates and times.

ADDRESSES: Council address: New England Fishery Management Council, 50 Water Street, Mill 2, Newburyport, MA 01950.

FOR FURTHER INFORMATION CONTACT: Thomas A. Nies, Executive Director, New England Fishery Management Council; telephone: (978) 465-0492.

SUPPLEMENTARY INFORMATION:

1. Wednesday, April 27, 2022, from 5 p.m.-6:30 p.m., Cruiseport, 6 Rowe Square, Gloucester, MA 01930;

2. Wednesday, May 11, 2022, from 4 p.m.-6 p.m., Whaling Museum, 18 Johnny Cake Hill, New Bedford, MA 02740;

3. Thursday, May 19, 2022, from 5 p.m.-7 p.m., Holiday Inn, 151 Route 72 West, Manahawkin, NJ 08050;

4. Wednesday, May 25, 2022, from 4 p.m.-6 p.m., Whaling Museum, 18 Johnny Cake Hill, New Bedford, MA 02740;

5. Thursday, May 26, 2022, from 10 a.m.-12 p.m., Superior Trawl Conference Room, 55 State Street, Narragansett, RI 02882;

6. Wednesday, June 1, 2022, from 5 p.m.-7 p.m., DoubleTree River Front, 100 Middle Street, New Bern, NC 28560;

7. Thursday, June 2, 2022, from 5 p.m.-7 p.m., Embassy Suites, 1700 Coliseum Drive, Hampton, VA 23666;

8. Friday, June 17, 2022, from 1 p.m.-2:30 p.m., via webinar. Please register for the webinar here https://attendee.gotowebinar.com/register/1197227847196646414; and

9. Friday, June 24, 2022, from 10 a.m.—12 p.m., via webinar. Please register for the webinar here https://attendee.gotowebinar.com/register/7661183039612723725.

Public comments: Public comment deadline is 8 a.m. EST on July 5, 2022. Mail to Thomas A. Nies, Executive Director, New England Fishery Management Council, 50 Water Street, Mill #2, Newburyport, MA 01950. Mark the outside of the envelope “Atlantic Sea Scallop Limited Access Leasing Scoping Comments”. Comments may also be sent via fax to 978-465-3116 or submitted via email to comments@nefmc.org with “Atlantic Sea Scallop Limited Access Leasing Scoping Comments” in the subject line.

Agenda

Council staff will brief the public on Limited Access Leasing before receiving comments. The hearing will begin promptly at the time indicated above. If all attendees who wish to do so have provided their comments prior to the end time indicated, the hearing may conclude early. To the extent possible, the Council may extend hearings beyond the end time indicated above to accommodate all attendees who wish to speak.

Although non-emergency issues not contained on the agenda may come before this Council for discussion, those issues may not be the subject of formal action during this meeting. Council action will be restricted to those issues specifically listed in this notice and any issues arising after publication of this notice that require emergency action under section 305(c) of the Magnuson-Stevens Act, provided the public has been notified of the Council's intent to take final action to address the emergency. The public also should be aware that the meeting will be recorded. Consistent with 16 U.S.C. 1852, a copy of the recording is available upon request.

Special Accommodations

These meetings are physically accessible to people with disabilities. Requests for sign language interpretation or other auxiliary aids should be directed to Thomas A. Nies, Executive Director, at (978) 465-0492, at least 5 days prior to the meeting date.

Authority: 16 U.S.C. 1801 et seq.

Dated: April 6, 2022.
Tracey L. Thompson,
Acting Deputy Director, Office of Sustainable Fisheries, National Marine Fisheries Service.

[FR Doc. 2022-07694 Filed 4-8-22; 8:45 am]

BILLING CODE 3510-22-P